FEDERAL COMMUNICATIONS COMMISSION

Notice of Public Information Collection(s) Being Reviewed by the Federal Communications Commission

July 20, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 30, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0206.

Title: Part 21—Domestic Public Fixed Radio Services.

Form No.: Not Applicable.

Type of Review: Extension of a currently approved collection.

Respondents: Business or other for-profit.

Number of Respondents: 15,858.

Estimated Time Per Response: 10 hours.

Frequency of Response: On occasion and annual reporting requirements, recordkeeping requirement, and third party disclosure requirement.

Total Annual Burden: 10,221 hours.

Total Annual Cost: $1,244,300.

Privacy Act Impact Assessment: Not applicable.

Needs and Uses: The information requested in part 21 is used by the Commission to fulfill its obligations as set forth in sections 308 and 309 of the Communications Act of 1934, as amended. The information is used by FCC staff to determine the technical, legal and other qualifications of applicants to operate a station in the Multipoint Distribution Service (MDS). The Commission is seeking extension (no change in requirements) in order to obtain the full three year clearance from OMB.

Federal Communications Commission.
William F. Caton,
Deputy Secretary.

[FR Doc. 04-17425 Filed 7-29-04; 8:45 am]

BILLING CODE 6712-01-P